SUSQUEHANNA RIVER BASIN COMMISSION

Actions Taken at December 8, 2017, Meeting

AGENCY: Susquehanna River Basin Commission.

ACTION: Notice.

SUMMARY: As part of its regular business meeting held on December 8, 2017, in Annapolis, Maryland, the Commission took the following actions: (1) Approved or tabled the applications of certain water resources projects; and (2) took additional actions, as set forth in the Supplementary Information below.

DATES: December 8, 2017.

ADDRESSES: Susquehanna River Basin Commission, 4423 N. Front Street, Harrisburg, PA 17110-1788.

FOR FURTHER INFORMATION CONTACT: Jason E. Oyler, General Counsel, telephone: 717-238-0423, ext. 1312; fax: 717-238-2436; joyler@srbc.net. Regular mail inquiries may be sent to the above address. See also Commission website at www.srbc.net.

SUPPLEMENTARY INFORMATION: In addition to the actions taken on projects identified in the summary above and the listings below, the following items were also presented or acted upon at the business meeting: (1) Adoption of a resolution urging President Trump and the United State Congress to provide full funding for the national Groundwater and Streamflow Information Program, thereby supporting the Susquehanna Flood Forecast & Warning System; (2) adoption of amended Commission's By-laws and Procedures to reflect revisions to officers' duties, clarification of budget and financial procedures, and other changes in accordance with the Susquehanna River Basin Compact; (3) approval of a grant amendment and acceptance of a contribution; (4) adoption of final rules, subject to final member jurisdiction review, pertaining to the amendment of Commission regulations to codify and strengthen the Commission's Access to Records Policy.

Project Applications Approved

The Commission approved the following project applications:

1. Project Sponsor and Facility: Beech Creek Borough Authority, Beech Creek Borough, Clinton County, Pa. Renewal of groundwater withdrawal of up to 0.220 mgd (30-day average) from Well 2 (Docket No. 19870602).

2. Project Sponsor and Facility: Cabot Oil & Gas Corporation (Meshoppen Creek), Lemon Township, Wyoming County, Pa. Modification to increase surface water withdrawal by an additional 0.500 mgd (peak day), for a total surface water withdrawal of up to 1.000 mgd (peak day) (Docket No. 20170302).

3. Project Sponsor and Facility: Chesapeake Appalachia, L.L.C. (Susquehanna River), Athens Township, Bradford County, Pa. Renewal of surface water withdrawal of up to 0.750 mgd (peak day) (Docket No. 20131202).

4. Project Sponsor and Facility: Houtzdale Municipal Authority, Gulich Township, Clearfield County, Pa. Groundwater withdrawal of up to 1.008 mgd (30-day average) from Well 14R.

5. Project Sponsor and Facility: LHP Management, LLC (Fishing Creek), Bald Eagle Township, Clinton County, Pa. Surface water withdrawal of up to 0.999 mgd (peak day).

6. Project Sponsor and Facility: Martinsburg Municipal Authority, North Woodbury Township, Blair County, Pa. Renewal of groundwater withdrawal of up to 0.346 mgd (30-day average) from Wineland Well 3 (Docket No. 19870304).

7. Project Sponsor and Facility: Borough of Mifflinburg, West Buffalo Township, Union County, Pa. Modification to request a reduction in the withdrawal rate of Well PW-2 from 0.554 mgd to 0.396 mgd (30-day average), and to eliminate wetlands monitoring condition (Docket No. 20141203).

8. Project Sponsor and Facility: Repsol Oil & Gas USA, LLC (Choconut Creek), Choconut Township, Susquehanna County, Pa. Renewal of surface water withdrawal of up to 0.999 mgd (peak day) (Docket No. 20131211).

9. Project Sponsor: SUEZ Water Pennsylvania Inc. Project Facility: Shavertown Operation, Dallas Township, Luzerne County, Pa. Groundwater withdrawal of up to 0.288 mgd (30-day average) from the Salla Well.

10. Project Sponsor and Facility: SWN Production Company, LLC (Lycoming Creek), Lewis Township, Lycoming County, Pa. Renewal of surface water withdrawal of up to 0.500 mgd (peak day) (Docket No. 20131209).

11. Project Sponsor and Facility: SWN Production Company, LLC (Lycoming Creek), McIntyre Township, Lycoming County, Pa. Renewal of surface water withdrawal of up to 0.500 mgd (peak day) (Docket No. 20131210).

12. Project Sponsor and Facility: Village of Waverly, Tioga County, N.Y. Groundwater withdrawal of up to 0.320 mgd (30-day average) from Well 1.

13. Project Sponsor and Facility: Village of Waverly, Tioga County, N.Y. Groundwater withdrawal of up to 0.480 mgd (30-day average) from Well 2.

14. Project Sponsor and Facility: Village of Waverly, Tioga County, N.Y. Groundwater withdrawal of up to 0.470 mgd (30-day average) from Well 3.

Project Applications Tabled

The Commission tabled action on the following project applications:

1. Project Sponsor and Facility: Brymac, Inc. dba Mountain View Country Club (Pond 3/4), Harris Township, Centre County, Pa. Application for surface water withdrawal of up to 0.240 mgd (peak day).

2. Project Sponsor and Facility: Cabot Oil & Gas Corporation (East Branch Tunkhannock Creek), Lenox Township, Susquehanna County, Pa. Application for surface water withdrawal of up to 1.000 mgd (peak day).

3. Project Sponsor and Facility: Schuylkill Energy Resources, Inc., Mahanoy Township, Schuylkill County, Pa. Application for renewal of groundwater withdrawal of up to 5.000 mgd (30-day average) from Maple Hill Mine Shaft Well (Docket No. 19870101).

4. Project Sponsor and Facility: Schuylkill Energy Resources, Inc., Mahanoy Township, Schuylkill County, Pa. Application for renewal of consumptive use of up to 2.550 mgd (peak day) (Docket No. 19870101).

Authority: Pub. L. 91-575, 84 Stat. 1509 et seq., 18 CFR parts 806, 807, and 808.

Dated: January 9, 2018.
Stephanie L. Richardson,
Secretary to the Commission.

[FR Doc. 2018-00466 Filed 1-11-18; 8:45 am]

BILLING CODE 7040-01-P